DEPARTMENT OF ENERGY

Federal Energy Regulatory Commission

Combined Notice of Filings #1

Take notice that the Commission received the following exempt wholesale generator filings:

Docket Numbers: EG17-146-000.

Applicants: Thunder Ranch Wind Project, LLC.

Description: Notice of Self-Certification of Exempt Wholesale Generator Status of Thunder Ranch Wind Project, LLC.

Filed Date: 8/30/17.

Accession Number: 20170830-5064.

Comments Due: 5 p.m. ET 9/20/17.

Docket Numbers: EG17-147-000.

Applicants: Scott-II Solar LLC.

Description: Notice of Self-Certification of Exempt Wholesale Generator Status of Scott-II Solar LLC.

Filed Date: 8/30/17.

Accession Number: 20170830-5108.

Comments Due: 5 p.m. ET 9/20/17.

Take notice that the Commission received the following electric rate filings:

Docket Numbers: ER17-2375-000.

Applicants: GenOn Holdco 8, LLC.

Description: Baseline eTariff Filing: Application for Market-Based Rate Authorization and Request for Waivers to be effective 10/1/2017.

Filed Date: 8/30/17.

Accession Number: 20170830-5001.

Comments Due: 5 p.m. ET 9/20/17.

Docket Numbers: ER17-2376-000.

Applicants: GenOn Holdco 9, LLC.

Description: Baseline eTariff Filing: Application for Market-Based Rate Authorization and Request for Waivers to be effective 10/1/2017.

Filed Date: 8/30/17.

Accession Number: 20170830-5002.

Comments Due: 5 p.m. ET 9/20/17.

Docket Numbers: ER17-2377-000.

Applicants: GenOn Holdco 10, LLC.

Description: Baseline eTariff Filing: Application for Market-Based Rate Authorization and Request for Waivers to be effective 10/1/2017.

Filed Date: 8/30/17.

Accession Number: 20170830-5003.

Comments Due: 5 p.m. ET 9/20/17.

Docket Numbers: ER17-2378-000.

Applicants: Michigan Electric Transmission Company, LLC.

Description: § 205(d) Rate Filing: Filing of a Letter Agreement to be effective 8/31/2017.

Filed Date: 8/30/17.

Accession Number: 20170830-5061.

Comments Due: 5 p.m. ET 9/20/17.

Docket Numbers: ER17-2379-000.

Applicants: Arizona Public Service Company.

Description: § 205(d) Rate Filing: OATT Administrative Filing to be effective 1/1/2015.

Filed Date: 8/30/17.

Accession Number: 20170830-5096.

Comments Due: 5 p.m. ET 9/20/17.

Docket Numbers: ER17-2380-000.

Applicants: Arizona Public Service Company.

Description: § 205(d) Rate Filing: Rate Schedule No. 217, Exhibit B.GLA to be effective 10/30/2017.

Filed Date: 8/30/17.

Accession Number: 20170830-5100.

Comments Due: 5 p.m. ET 9/20/17.

Docket Numbers: ER17-2381-000.

Applicants: Scott-II Solar LLC.

Description: Baseline eTariff Filing: Baseline—Market-Based Rate Tariff to be effective 10/23/2017.

Filed Date: 8/30/17.

Accession Number: 20170830-5101.

Comments Due: 5 p.m. ET 9/20/17.

Docket Numbers: ER17-2382-000.

Applicants: PJM Interconnection, L.L.C.

Description: § 205(d) Rate Filing: Original Service Agreement No. 4765, Queue No. AB1-123 to be effective 8/7/2017.

Filed Date: 8/30/17.

Accession Number: 20170830-5122.

Comments Due: 5 p.m. ET 9/20/17.

Docket Numbers: ER17-2383-000.

Applicants: Great Bay Solar I, LLC.

Description: § 205(d) Rate Filing: Name Change to be effective 8/30/2017.

Filed Date: 8/30/17.

Accession Number: 20170830-5134.

Comments Due: 5 p.m. ET 9/20/17.

Docket Numbers: ER17-2384-000.

Applicants: PJM Interconnection, L.L.C.

Description: § 205(d) Rate Filing: Original Service Agreement No. 4766, Queue Position No. AB1-124 to be effective 8/7/2017.

Filed Date: 8/30/17.

Accession Number: 20170830-5137.

Comments Due: 5 p.m. ET 9/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2017.
Nathaniel J. Davis, Sr.,
Deputy Secretary.

[FR Doc. 2017-18842 Filed 9-5-17; 8:45 am]

BILLING CODE 6717-01-P